DEPARTMENT OF ENERGY

Federal Energy Regulatory Commission

Combined Notice of Filings

Take notice that the Commission has received the following Natural Gas Pipeline Rate and Refund Report filings:

Filings Instituting Proceedings

Docket Numbers: RP12-1043-000.

Applicants: CenterPoint Energy—Mississippi River T.

Description: 2012 Fuel Adjustment Filing to be effective 11/1/2012.

Filed Date: 9/18/12.

Accession Number: 20120918-5050.

Comments Due: 5 p.m. e.t. 10/1/12.

Docket Numbers: RP12-1044-000.

Applicants: Natural Gas Pipeline Company of America.

Description: Tenaska Gas Negotiated Rate to be effective 9/18/2012.

Filed Date: 9/18/12.

Accession Number: 20120918-5052.

Comments Due: 5 p.m. e.t. 10/1/12.

Docket Numbers: RP12-1045-000.

Applicants: Gulf South Pipeline Company, LP.

Description: Devon 34694-41 Amendment to Neg Rate Agmt to be effective 9/15/2012.

Filed Date: 9/18/12.

Accession Number: 20120918-5056.

Comments Due: 5 p.m. e.t. 10/1/12.

Docket Numbers: RP12-1046-000.

Applicants: Gulf Crossing Pipeline Company LLC.

Description: Enterprise K12-9 Amendment to Neg Rate Agmt to be effective 9/15/2012.

Filed Date: 9/18/12.

Accession Number: 20120918-5058.

Comments Due: 5 p.m. e.t. 10/1/12.

Docket Numbers: RP12-1048-000.

Applicants: Viking Gas Transmission Company.

Description: Conforming Backhaul Agreements.

Filed Date: 9/18/12.

Accession Number: 20120918-5113.

Comments Due: 5 p.m. e.t. 10/1/12.

Docket Numbers: RP12-1049-000.

Applicants: Equitrans, L.P.

Description: Capacity Release Updates to be effective 11/1/2012

Filed Date: 9/19/12.

Accession Number: 20120919-5014.

Comments Due: 5 p.m. e.t. 10/1/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated September 19, 2012.
Nathaniel J. Davis, Sr.,
Deputy Secretary

[FR Doc. 2012-23646 Filed 9-25-12; 8:45 am]

BILLING CODE 6717-01-P